NATIONAL SCIENCE FOUNDATION

Committee Management; Renewal

The NSF management officials having responsibility for NSB Public Service Award Committee (#5195) have determined that renewing this group for another two years is necessary and in the public interest in connection with the performance of duties imposed upon the Director, National Science Foundation by 42 U.S.C. 1861 et seq. This determination follows consultation with the Committee Management Secretariat, General Services Administration.

Authority for this Committee will expire on September 4, 2003, unless they are renewed. For more information contact Susanne Bolton at (703) 292-7488.

Dated: August 27, 2003.
Susanne Bolton,
Committee Management Officer.

[FR Doc. 03-22289 Filed 8-29-03; 8:45 am]

BILLING CODE 7555-01-M